DEPARTMENT OF TRANSPORTATION

Federal Aviation Administration

Eighth Meeting: RTCA Next Gen Advisory Committee (NAC)

AGENCY: Federal Aviation Administration (FAA), U.S. Department of Transportation (DOT).

ACTION: Notice of RTCA NextGen Advisory Committee (NAC).

SUMMARY: The FAA is issuing this notice to advise the public of the eighth meeting of the RTCA NextGen Advisory Committee (NAC).

DATES: The meeting will be held February 7, 2013, from 9:30 a.m. to 3:00 p.m.

ADDRESSES: The meeting will be held in the ballroom of the Hotel Monaco, 15 West 200 South, Salt Lake City, UT 84101.

FOR FURTHER INFORMATION CONTACT: The RTCA Secretariat, 1150 18th Street NW., Suite 910, Washington, DC 20036, by telephone at (202) 833-9339, fax at (202) 833-9434, or the Web site at http://www.rtca.org. Alternately, contact Andy Cebula at (202) 330-0652, or email acebula@rtca.org.

SUPPLEMENTARY INFORMATION: Pursuant to section 10(a)(2) of the Federal Advisory Committee Act (Pub. L. 92-463, 5 U.S.C., App.), notice is hereby given for a NextGen Advisory Committee meeting. The agenda will include the following:

February 7, 2013

• Opening of Meeting and Introduction of NAC Members—Chairman Bill Ayer, Chairman, Alaska Air Group

• Official Statement of Designated Federal Official—The Honorable Michael Huerta, FAA Administrator

• Review and approval of October 4, 2012 Meeting Summary and Revision to NAC Terms of Reference

• Chairman's Report—Chairman Ayer

• FAA Report—Mr. Huerta

• Review and Approve Recommendation for Submission to FAA

○ NextGen Implementation Metrics—a recommendation for Key city pairs evaluation of Transcon/Regional City Pairs that can be used for NextGen metrics.

• Data sources for measuring NextGen fuel Impact

○ Update of initiative to identify and obtain critical data sources to track and analyze the impacts of NextGen.

• Cat Ex 2 Task Group

○ Preliminary report on the recommendation for implementing new statutory authority for a streamlined environmental review process.

• Performance Based Navigation (PBN)

○ Preliminary report to identify and mitigate barriers to implementing PBN.

• Issues associated with Implementing RNAV/RNP

○ An open discussion by the Committee of Non-technical barriers of PBN procedures.

• Anticipated Issues for NAC consideration and action at the next meeting, May 30, 2013

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 9, 2013.
David Sicard,
Manager, Business Operations Group, Federal Aviation Administration.

[FR Doc. 2013-01818 Filed 1-24-13; 4:15 pm]

BILLING CODE 4910-13-P